DEPARTMENT OF TRANSPORTATION

Federal Aviation Administration

14 CFR Part 39

[Docket No. FAA-2021-0570; Project Identifier 2019-SW-091-AD; Amendment 39-21888; AD 2021-26-29]

RIN 2120-AA64

Airworthiness Directives; Leonardo S.p.a. Helicopters

AGENCY: Federal Aviation Administration (FAA), DOT.

ACTION: Final rule.

SUMMARY: The FAA is adopting a new airworthiness directive (AD) for all Leonardo S.p.a. Model AW169 helicopters. This AD was prompted by a report of a broken adjustable device that is part of the pilot and co-pilot yaw pedal assemblies. This AD requires modification of certain pilot and co-pilot yaw pedal assemblies with an improved design and re-identification of affected parts, as specified in a European Union Aviation Safety Agency (EASA) AD, which is incorporated by reference. The FAA is issuing this AD to address the unsafe condition on these products.

DATES: This AD is effective February 22, 2022.

The Director of the Federal Register approved the incorporation by reference of a certain publication listed in this AD as of February 22, 2022.

ADDRESSES: For EASA material incorporated by reference (IBR) in this AD, contact EASA, Konrad-Adenauer-Ufer 3, 50668 Cologne, Germany; telephone +49 221 8999 000; email ADs@easa.europa.eu; internet www.easa.europa.eu. You may find this IBR material on the EASA website at https://ad.easa.europa.eu. You may view this material at the FAA, Office of the Regional Counsel Southwest Region, 10101 Hillwood Pkwy., Room 6N-321, Fort Worth, TX 76177. For information on the availability of the EASA material at the FAA, call (817) 222-5110. It is also available in the AD docket at https://www.regulations.gov by searching for and locating Docket No. FAA-2021-0570.

Examining the AD Docket

You may examine the AD docket at https://www.regulations.gov by searching for and locating Docket No. FAA-2021-0570; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

FOR FURTHER INFORMATION CONTACT: Kristi Bradley, Program Manager, COS Program Management Section, Operational Safety Branch, FAA, 10101 Hillwood Pkwy., Fort Worth, TX 76177; telephone (817) 222-5485; email kristin.bradley@faa.gov.

SUPPLEMENTARY INFORMATION:

Background

EASA, which is the Technical Agent for the Member States of the European Union, has issued EASA AD 2021-0199, dated August 27, 2021 (EASA AD 2021-0199), (also referred to as the MCAI), to correct an unsafe condition for Leonardo S.p.a. (formerly Finmeccanica S.p.A and AgustaWestland S.p.A) Model AW169 helicopters, all serial numbers. EASA AD 2021-0199 supersedes EASA AD 2019-0252, dated October 10, 2019 (EASA AD 2019-0252), which was issued to correct an unsafe condition for Leonardo S.p.a. (formerly Finmeccanica S.p.A and AgustaWestland S.p.A) Model AW169 helicopters, all serial numbers.

The FAA issued a notice of proposed rulemaking (NPRM) to amend 14 CFR part 39 by adding an AD that would apply to Leonardo S.p.a. Model AW169 helicopters with an affected part installed as identified in EASA AD 2019-0252. The NPRM published in the Federal Register on July 28, 2021 (86 FR 40371). In the NPRM, the FAA proposed to require modification of the pilot and co-pilot yaw pedal assemblies. The NPRM was prompted by EASA AD 2019-0252, which advised that there was a report of a broken adjustable device that is part of the pilot and co-pilot yaw pedal assemblies. This condition, if not addressed, could result in failure of a yaw pedal adjuster, which could result in reduced yaw control of the helicopter.

Accordingly, EASA AD 2019-0252 required modification (rework) of the affected pilot and co-pilot assemblies and re-identification of each affected part after it has been modified. The modification included the installation of additional end stroke stops on the pilot and co-pilot pedal assemblies. EASA considered EASA AD 2019-0252 an interim action and stated that further EASA AD action may follow.

The FAA issued a supplemental notice of proposed rulemaking (SNPRM) to amend 14 CFR part 39 by adding an AD that would apply to all Leonardo S.p.a. Model AW169 helicopters. The SNPRM published in the Federal Register on October 29, 2021 (86 FR 59900). The SNPRM proposed to require modification of certain pilot and copilot yaw pedal assemblies with an improved design and re-identification of the affected parts, as specified in EASA AD 2021-0199.

EASA advises that since EASA AD 2019-0252 was issued three additional events have been reported where the universal joint of the adjusting mechanism on the yaw pedals failed. Prompted by these findings, Leonardo S.p.a. developed a new modification that introduces upgraded pilot and co-pilot pedal assemblies with an improved design, which removes the failure modes.

Accordingly, EASA AD 2021-0199 requires modification (rework) of the affected pilot and co-pilot assemblies and re-identification of each affected part after it has been modified. The modification includes replacing the pedal main support assembly, adjuster screw assembly, knob assembly, and spring pin, and removing the additional end stroke stops that were installed on the pilot and co-pilot pedal assemblies using the modification specified in EASA AD 2019-0252. EASA AD 2021-0199 also provides an option to replace an affected part with a non-affected part instead of doing the modification.

In addition, the FAA revised the applicability of the SNPRM from Leonardo S.p.a. Model AW169 helicopters with an affected part installed (as specified in the NPRM), to all Leonardo S.p.a. Model AW169 helicopters. This revised applicability matches EASA AD 2021-0199.

The FAA is issuing this AD to address failure of a yaw pedal adjuster, which could result in reduced yaw control of the helicopter. See the MCAI for additional background information.

Discussion of Final Airworthiness Directive

Comments

The FAA received no comments on the SNPRM or on the determination of the cost to the public.

Conclusion

The FAA reviewed the relevant data, and determined that air safety requires adopting this AD as proposed. Except for minor editorial changes, this AD is adopted as proposed in the SNPRM. None of the changes will increase the economic burden on any operator. Accordingly, the FAA is issuing this AD to address the unsafe condition on these products.

Related Service Information Under 1 CFR Part 51

EASA AD 2021-0199 requires modification of the affected pilot and co-pilot assemblies and re-identification of each affected part after it has been modified. EASA AD 2021-0199 also provides an option to replace an affected part with a non-affected part instead of doing the modification. EASA AD 2021-0199 also prohibits the installation of affected parts.

This material is reasonably available because the interested parties have access to it through their normal course of business or by the means identified in the ADDRESSES section.

Costs of Compliance

The FAA estimates that this AD affects 10 helicopters of U.S. Registry. The FAA estimates the following costs to comply with this AD.

Estimated Costs
Action | Labor cost | Parts cost | Cost per product | Cost on U.S. operators
Modify and re-identify affected parts | 25 work-hours × $85 per hour = $2,125 | $0 | $2,125 | $21,250

The FAA has included all known costs in its cost estimate. According to the manufacturer, however, some of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-26-29 Leonardo S.p.a.: Amendment 39-21888; Docket No. FAA-2021-0570; Project Identifier 2019-SW-091-AD.

(a) Effective Date

This airworthiness directive (AD) is effective February 22, 2022.

(b) Affected ADs

None.

(c) Applicability

This AD applies to all Leonardo S.p.a. Model AW169 helicopters, certificated in any category.

(d) Subject

Joint Aircraft Service Component (JASC) Code: 6700, Rotorcraft Flight Control.

(e) Unsafe Condition

This AD was prompted by a report of a broken adjustable device that is part of the pilot and co-pilot yaw pedal assemblies. The FAA is issuing this AD to address failure of a yaw pedal adjuster, which could result in reduced yaw control of the helicopter.

(f) Compliance

Comply with this AD within the compliance times specified, unless already done.

(g) Requirements

Except as specified in paragraph (h) of this AD: Comply with all required actions and compliance times specified in, and in accordance with, European Union Aviation Safety Agency (EASA) AD 2021-0199, dated August 27, 2021 (EASA AD 2021-0199).

(h) Exceptions to EASA AD 2021-0199

(1) Where EASA AD 2021-0199 refers to flight hours, this AD requires using hours time-in-service.

(2) Where EASA AD 2021-0199 refers to its effective date, this AD requires using the effective date of this AD.

(3) Where the service information referenced in EASA AD 2021-0199 specifies discarding certain parts, this AD requires removing those parts from service.

(4) This AD does not mandate compliance with the “Remarks” section of EASA AD 2021-0199.

(i) No Reporting Requirement

Although the service information referenced in EASA AD 2021-0199 specifies to submit certain information to the manufacturer, this AD does not include that requirement.

(j) Special Flight Permit

Special flight permits, as described in 14 CFR 21.197 and 21.199, are prohibited.

(k) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (l) of this AD. Information may be emailed to: 9-AVS-AIR-730-AMOC@faa.gov.

(2) Before using any approved AMOC, notify your appropriate principal inspector, or lacking a principal inspector, the manager of the local flight standards district office/certificate holding district office.

(l) Related Information

For more information about this AD, contact Kristi Bradley, Program Manager, COS Program Management Section, Operational Safety Branch, FAA, 10101 Hillwood Pkwy., Fort Worth, TX 76177; telephone (817) 222-5485; email kristin.bradley@faa.gov.

(m) Material Incorporated by Reference

(1) The Director of the Federal Register approved the incorporation by reference of the service information listed in this paragraph under 5 U.S.C. 552(a) and 1 CFR part 51.

(2) You must use this service information as applicable to do the actions required by this AD, unless this AD specifies otherwise.

(i) European Union Aviation Safety Agency (EASA) AD 2021-0199, dated August 27, 2021.

(ii) [Reserved]

(3) For EASA AD 2021-0199, contact EASA, Konrad-Adenauer-Ufer 3, 50668 Cologne, Germany; telephone +49 221 8999 000; email ADs@easa.europa.eu; internet www.easa.europa.eu.

(4) You may view this service information at the FAA, Office of the Regional Counsel, Southwest Region, 10101 Hillwood Pkwy., Room 6N-321, Fort Worth, TX 76177. For information on the availability of this material at the FAA, call (817) 222- 5110. This material may be found in the AD docket at https://www.regulations.gov by searching for and locating Docket No. FAA-2021-0570.

(5) You may view this material that is incorporated by reference at the National Archives and Records Administration (NARA). For information on the availability of this material at NARA, email fr.inspection@nara.gov, or go to: https://www.archives.gov/federal-register/cfr/ibr-locations.html.

Issued on December 17, 2021.
Lance T. Gant,
Director, Compliance & Airworthiness Division, Aircraft Certification Service.

[FR Doc. 2022-00757 Filed 1-14-22; 8:45 am]

BILLING CODE 4910-13-P